PENSION BENEFIT GUARANTY CORPORATION

Agency Information Collection Activities; OMB Approval Received; Annual Financial and Actuarial Information Reporting

AGENCY: Pension Benefit Guaranty Corporation.

ACTION: Notice.

SUMMARY: In accordance with the Paperwork Reduction Act, this notice announces the Office of Management and Budget's approval of a collection of information contained in the Pension Benefit Guaranty Corporation's final rule on Annual Financial and Actuarial Information Reporting.

FOR FURTHER INFORMATION CONTACT: James L. Beller, Attorney, Legislative & Regulatory Department, PBGC, 1200 K Street, NW., Washington, DC 20005-4026; (202) 326-4024. (TTY/TDD users may call the Federal relay service toll-free at 1-800-877-8339 and ask to be connected to (202) 326-4024.)

SUPPLEMENTARY INFORMATION: On March 9, 2005, the PBGC published in the Federal Register (70 FR 11540) a final rule amending its regulation on Annual Financial and Actuarial Information Reporting. This rule contains information collection requirements. An agency may not conduct or sponsor, and a person is not required to respond to, a collection of information unless it displays a currently valid OMB control number. On March 9, 2005, OMB approved the collection of information requirements with respect to this final rule under OMB control number 1212-0049 (expires February 29, 2008).

Issued in Washington, DC, this 10th day of March, 2005.
James J. Armbruster,
Acting Director, Legislative & Regulatory Department, Pension Benefit Guaranty Corporation.

[FR Doc. 05-5066 Filed 3-14-05; 8:45 am]

BILLING CODE 7708-01-P